FEDERAL COMMUNICATIONS COMMISSION

47 CFR Part 73

[DA 00-2015; Docket No. 00-60, RM-9827; MM Docket No. 00-61, RM-9840; MM Docket No. 00-62, RM-9846]

Radio Broadcasting Services; Sheffield, PA; Erie, IL; and Due West, SC

AGENCY: Federal Communications Commission.

ACTION: Final rule.

SUMMARY: This document grants three proposals that allot new channels to Sheffield, Pennsylvania; Erie, Illinois; and Due West, South Carolina. Filing windows for Channel 286A at Sheffield, Pennsylvania; Channel 288A at Erie, Illinois; and Channel 237A at Due West, South Carolina, will not be opened at this time. Instead, the issue of opening a filing window for these channels will be addressed by the Commission in a subsequent order.

DATES: Effective October 16, 2000.

ADDRESSES: Federal Communications Commission, Washington, DC 20554.

FOR FURTHER INFORMATION CONTACT: Sharon P. McDonald, Mass Media Bureau, (202) 418-2180.

SUPPLEMENTARY INFORMATION: This is a synopsis of the Commission's Report and Order, MM Docket No. 00-60; MM Docket No. 00-61; and MM Docket No. 00-62, adopted August 23, 2000, and released September 1, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

The Commission, at the request of Port Erie Communications, allots Channel 286A at Sheffield, Pennsylvania, as the community's first local aural transmission service. See 65 FR 20935, April 19, 2000. Channel 286A can be allotted at Sheffield in compliance with the Commission's minimum distance separation requirements with a site restriction of 1.9 kilometers (1.2 miles) northeast to avoid short-spacings to the licensed and application sites for Station WQXK(FM), Channel 286B, Salem, Ohio. The coordinates for Channel 286A at Sheffield are 41-42-42 North Latitude and 79-00-56 West Longitude. Since Sheffield is located within 320 kilometers (200 miles) of the U.S.-Canadian border, concurrence of the Canadian government was requested but not yet received. Therefore, if a construction permit is granted prior to the receipt of formal concurrence in the allotment by the Canadian government, the construction permit will include the following condition: “Operation with the facilities specified herein is subject to modification, suspension or termination without right to a hearing, if found by the Commission to be necessary in order to conform to the U.S.A.-Canadian Broadcast Agreement.”

The Commission, at the request of Erie Foods International, Inc., allots Channel 288A at Erie, Illinois, as the community's first local aural transmission service. See 65 FR 20935, April 19, 2000. Channel 288A can be allotted to Erie in compliance with the Commission's minimum distance separation requirements with a site restriction of 0.6 kilometers (0.4 miles) east to avoid a short-spacing to the licensed site of Station KQLI(FM), Channel 285C3, DeWitt, Iowa. The coordinates for Channel 288A at Erie are 41-39-22 North Latitude and 90-04-23 West Longitude.

The Commission, at the request of Sutton Radiocasting Corporation, allots Channel 237A at Due West, South Carolina, as the community's first local aural transmission service. See 65 FR 20935, April 19, 2000. Channel 237A can be allotted at Due West in compliance with the Commission's minimum distance separation requirements with a site restriction of 5.5 kilometers (3.4 miles) south to avoid a short-spacing to the licensed site of Station WBTS(FM), Channel 238C1, Athens, Georgia. The coordinates for Channel 237A are 34-17-13 North Latitude and 82-24-23 West Longitude.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under Pennsylvania, is amended by adding Sheffield, Channel 286A.

3. Section 73.202(b), the Table of FM Allotments under Illinois, is amended by adding Erie, Channel 288A.

4. Section 73.202(b), the Table of FM Allotments under South Carolina, is amended by adding Due West, Channel 237A.

Federal Communications Commission.
John A. Karousos,
Chief, Allocations Branch, Policy and Rules Division, Mass Media Bureau.

[FR Doc. 00-23806 Filed 9-14-00; 8:45 am]

BILLING CODE 6712-01-P